DEPARTMENT OF TRANSPORTATION

Pipeline and Hazardous Materials Safety Administration

Hazardous Materials—Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 27, 2016.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on November 1, 2016.
Donald Burger,
Chief, Office of the Special Permits and Approvals.

Special Permits Data
Application No. | Docket No. | Applicant | Regulation(s) affected | Nature of the special permits thereof
20351-N |  | Roeder Cartage Company, Incorporated | 180.407(c), 180.407(e), 180.407(f) | To authorize the transportation in commerce of Acetonitrile and Acetonitrile, crude in dedicated DOT Specification 407 and 412 cargo tanks which are not required to have periodic internal visual inspections. (mode 1)
20356-N |  | Tesla Motors, Inc | 172.101 Column (9B), 173.185(b)(3) | To authorize the transportation in commerce of lithium ion batteries exceeding 35 kg by cargo-only aircraft. (mode 4)
20357-N |  | Jingmen Hongtu Special Aircraft Manufacturing Co., Ltd | 178.274(b), 178.276(a)(2), 178.276(b)(1) | To authorize the manufacture, marking, sale and use of certain DOT Specification 50 steel portable tanks or UN steel portable tanks conforming with Section VIII, Division 2 of the ASME Code instead of Section VIII, Division 1, for the transportation in commerce of Division 2.1 and 2.2 materials. (modes 1, 2, 3)
20360-N |  | Scott's Helicopter Service Inc | 172.101 Column (9B), 172.200, 172.204(c)(3), 172.301(c), 173.27(b)(2), 175.30, 175.75 | To authorize the transportation in commerce of certain hazardous materials by 14 Part 133 Rotorcraft External Load Operations transporting hazardous materials attached to or suspended from an aircraft, in remote areas of the US only, without being subject to hazard communication requirements, quantity limitations, and certain loading and stowage requirements. (mode 4)
20361-N |  | Keith Huber Corporation | 178.345-3(f)(3) | To authorize the manufacture, mark, sale, and use of non-DOT specification cargo tanks to transport gasoline. (mode 1)
20362-N |  | FSC Metal Corporation | 178.35(b) | To authorize the mark, sale, and use of cylinders manufactured by a foreign company prior to obtaining manufacturing approval. (mode 1)
20366-N |  | ATS-MER, LLC | 173.185(a) | To authorize the transportation in commerce of prototype and low production lithium batteries via cargo-only aircraft. (mode 4)

[FR Doc. 2016-27724 Filed 11-23-16; 8:45 am]

BILLING CODE 4909-60-M